DEPARTMENT OF THE TREASURY

Office of Thrift Supervision

[AC-03: OTS Nos. H4280 and 05964]

Liberty Bancorp, Inc. and Liberty Savings Bank, F.S.B., Liberty, Missouri; Approval of Conversion Application

Notice is hereby given that on May 12, 2006, the Assistant Managing Director, Examinations and Supervision—Operations, Office of Thrift Supervision (OTS), or her designee, acting pursuant to delegated authority, approved the application of Liberty Savings Bank, F.S.B., Liberty, Missouri, to convert to the stock form or organization. Copies of the application are available for inspection by appointment (phone number: 202-906-5922 or e-mail: Public.Info@OTS.Treas.gov) at the Public Reading Room, OTS, 1700 G Street, NW, Washington, DC 20552, and the OTS Midwest Regional Office, 225 E. John Carpenter Freeway, Suite 500, Irving, Texas 75062-2326.

Dated: May 16, 2006.
By the Office of Thrift Supervision.
Nadine Y. Washington,
Corporate Secretary.

[FR Doc. 06-4722 Filed 5-19-06; 8:45 am]

BILLING CODE 6720-01-M